DEPARTMENT OF ENERGY

Federal Energy Regulatory Commission

Combined Notice of Filings #1

Take notice that the Commission received the following electric corporate filings:

Docket Numbers: EC21-9-000.

Applicants: Wind Wall 1 LLC, Cubico Wind Wall Holdings, LLC.

Description: Application for Authorization Under Section 203 of the Federal Power Act, et al.

Filed Date: 10/19/20.

Accession Number: 20201019-5121.

Comments Due: 5 p.m. ET 11/9/20.

Take notice that the Commission received the following electric rate filings:

Docket Numbers: ER12-1933-012; ER12-1934-010.

Applicants: Interstate Power and Light Company, Wisconsin Power and Light Company.

Description: Notification of Change in Status of Interstate Power and Light Company, et al.

Filed Date: 10/16/20.

Accession Number: 20201016-5259.

Comments Due: 5 p.m. ET 11/6/20.

Docket Numbers: ER19-2546-001.

Applicants: Midcontinent Independent System Operator, Inc.

Description: Midcontinent Independent System Operator, Inc. submits tariff filing per 35.19a(b): Refund Report Tuscola Wind II to be effective N/A.

Filed Date: 10/16/20.

Accession Number: 20201016-5230.

Comments Due: 5 p.m. ET 11/6/20.

Docket Numbers: ER20-1863-002.

Applicants: Ingenco Wholesale Power, L.L.C.

Description: Tariff Amendment: Response to Deficiency Letter in Docket ER20-1863 to be effective 6/1/2020.

Filed Date: 10/20/20.

Accession Number: 20201020-5002.

Comments Due: 5 p.m. ET 11/10/20.

Docket Numbers: ER20-2591-001.

Applicants: Midcontinent Independent System Operator, Inc.

Description: Tariff Amendment: 2020-10-20_Deficiency Response to Aggregator of Retail Customers (ARCs) Filing to be effective 9/30/2020.

Filed Date: 10/20/20.

Accession Number: 20201020-5068.

Comments Due: 5 p.m. ET 11/10/20.

Docket Numbers: ER21-145-000.

Applicants: Tri-State Generation and Transmission Association, Inc.

Description: § 205(d) Rate Filing: Filing of Rate Schedule FERC Nos. 313 and 314 to be effective 10/20/2020.

Filed Date: 10/19/20.

Accession Number: 20201019-5085.

Comments Due: 5 p.m. ET 11/9/20.

Docket Numbers: ER21-146-000.

Applicants: Duke Energy Progress, LLC.

Description: § 205(d) Rate Filing: DEP—Recovery of CertainTeed Liquidated Damages Payments to be effective 12/19/2020.

Filed Date: 10/19/20.

Accession Number: 20201019-5091.

Comments Due: 5 p.m. ET 11/9/20.

Docket Numbers: ER21-147-000.

Applicants: El Paso Electric Company.

Description: § 205(d) Rate Filing: Service Agreement No. 337, EPE-TEP Pseudo-Tie Agreement to be effective 10/21/2020.

Filed Date: 10/20/20.

Accession Number: 20201020-5001.

Comments Due: 5 p.m. ET 11/10/20.

Docket Numbers: ER21-148-000.

Applicants: Pacific Gas and Electric Company.

Description: Application for Proposed Cost Allocation Methodology for Standby Electric Customers of Pacific Gas and Electric Company.

Filed Date: 10/16/20.

Accession Number: 20201016-5233.

Comments Due: 5 p.m. ET 11/6/20.

Docket Numbers: ER21-149-000.

Applicants: ColumbiaGrid.

Description: Notice of Cancellation for Rate Schedule No. 1 of ColumbiaGrid.

Filed Date: 10/16/20.

Accession Number: 20201016-5246.

Comments Due: 5 p.m. ET 11/6/20.

Docket Numbers: ER21-150-000.

Applicants: PJM Interconnection, L.L.C.

Description: § 205(d) Rate Filing: Amendment to ISA, SA No. 4463; Queue No. Z2-108 to be effective 4/25/2016.

Filed Date: 10/20/20.

Accession Number: 20201020-5021.

Comments Due: 5 p.m. ET 11/10/20.

Docket Numbers: ER21-151-000.

Applicants: Niagara Mohawk Power Corporation, New York Independent System Operator, Inc.

Description: § 205(d) Rate Filing: E&P Agreement between Niagara Mohawk and LS Power Grid New York Corporation I to be effective 9/21/2020.

Filed Date: 10/20/20.

Accession Number: 20201020-5028.

Comments Due: 5 p.m. ET 11/10/20.

Docket Numbers: ER21-152-000.

Applicants: Public Service Company of Colorado.

Description: eTariff filing per 10 (Replaces 20201019-5077): Amended and Restated Transmission Services Agreement to be effective 1/1/2021.

Filed Date: 10/20/20.

Accession Number: 20201020-5040.

Comments Due: 5 p.m. ET 11/10/20.

Docket Numbers: ER21-154-000.

Applicants: New York Independent System Operator, Inc., New York State Electric & Gas Corporation.

Description: § 205(d) Rate Filing: SGIA 2562 among NYISO, NYSEG and Orangeville Energy Storage to be effective 10/6/2020.

Filed Date: 10/20/20.

Accession Number: 20201020-5042.

Comments Due: 5 p.m. ET 11/10/20.

Docket Numbers: ER21-155-000.

Applicants: Southern California Edison Company.

Description: § 205(d) Rate Filing: DSA Wildcat I Energy Storage LLC—Wildcat I Energy Storage & Cancel Letter Agmt. to be effective 11/15/2020.

Filed Date: 10/20/20.

Accession Number: 20201020-5054.

Comments Due: 5 p.m. ET 11/10/20.

Docket Numbers: ER21-156-000.

Applicants: PJM Interconnection, L.L.C.

Description: § 205(d) Rate Filing: First Revised ISA, Service Agreement No. 4506; Queue No. AF1-026 to be effective 9/21/2020.

Filed Date: 10/20/20.

Accession Number: 20201020-5066.

Comments Due: 5 p.m. ET 11/10/20.

Docket Numbers: ER21-157-000.

Applicants: Tri-State Generation and Transmission Association, Inc.

Description: § 205(d) Rate Filing: Certificate of Concurrence for Amended and Restated Service Agreement No. 814 to be effective 1/1/2021.

Filed Date: 10/20/20.

Accession Number: 20201020-5067.

Comments Due: 5 p.m. ET 11/10/20.

Docket Numbers: ER21-158-000.

Applicants: Aera Energy LLC.

Description: Tariff Cancellation: Notice of Cancellation to be effective 10/21/2020.

Filed Date: 10/20/20.

Accession Number: 20201020-5073.

Comments Due: 5 p.m. ET 11/10/20.

Docket Numbers: ER21-159-000.

Applicants: PJM Interconnection, L.L.C.

Description: § 205(d) Rate Filing: First Revised ISA, Service Agreement No. 4348; Queue No. AF1-027 to be effective 9/21/2020.

Filed Date: 10/20/20.

Accession Number: 20201020-5077.

Comments Due: 5 p.m. ET 11/10/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 20, 2020.
Nathaniel J. Davis, Sr.,
Deputy Secretary.

[FR Doc. 2020-23642 Filed 10-23-20; 8:45 am]

BILLING CODE 6717-01-P